DEPARTMENT OF THE INTERIOR

National Park Service

[NPS-WASO-NAGPRA-14182; PPWOCRADN0-PCU00RP14.R50000]

Notice of Inventory Completion: Institute of the Great Plains, Lawton, OK

AGENCY: National Park Service, Interior.

ACTION: Notice.

SUMMARY: The Institute of the Great Plains has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Institute of the Great Plains. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Institute of the Great Plains at the address in this notice by April 10, 2014.

ADDRESSES: Debra Baker, NAGPRA Representative, Museum of the Great Plains, 601 NW Ferris Ave., Lawton, OK 73505, telephone (580) 581-3460, email debrab@museumgreatplains.org.

SUPPLEMENTARY INFORMATION: Notice is here given in accordance with the Native American Graves Protection and Repatriation Act (NAGPRA), 25 U.S.C. 3003, of the completion of an inventory of human remains and associated funerary objects under the control of the Institute of the Great Plains, Lawton, OK. The human remains and associated funerary objects were removed from Poafpybitty site, in Comanche County, OK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Institute of the Great Plains professional staff in consultation with representatives of the Kiowa Indian Tribe of Oklahoma.

History and Description of the Remains

In the spring of 1966, human remains representing, at minimum, two individuals were removed from the Poafpybitty site in Comanche County, OK. Two archeologists from the Museum of the Great Plains, Tyler Bastian and Franklin Chappabitty, were called to the area following a report that human remains were eroding from the soil. In response to the extreme erosion occurring at the site, a salvage excavation was performed with the permission of the landowner, Bill Poafpybitty. Richard McWilliams, a graduate student of the University of Oklahoma, who served as the physical anthropologist for the excavation, removed the human remains and associated funerary objects. Instead of transferring the human remains and cultural items to the Museum of the Great Plains, McWilliams donated them to Wake Forest University in Winston-Salem, NC. The only information about the human remains and associated funerary objects at Wake Forest University was that they belonged to Kiowa burials. In 2007, Debra Baker, an archeologist with the Institute of the Great Plains (which is a non-profit organization associated with the Museum of the Great Plains and is responsible for all collections), located the human remains and cultural items at Wake Forest University and oversaw their transfer to the Institute of the Great Plains. No known individuals were identified. The 247 associated funerary objects are 1 shell breast plate; 1 decorated wood mirror; 93 brass/copper bracelets; 1 plume holder and fragments from a military helmet; 6 stamped bracelets; 1 chain bracelet; 1 lot of fragments from a parasol; 1 shell pipe bracelet; 3 metal projectile points; 2 rings; 2 pocket knives; 1 fragmented belt with tacks and a raised five star buckle; 1 rectangular mirror; 7 fragmented tablespoons; 2 fragmented concha belts with numerous fragments of conchas; 1 metal pitcher handle; 26 fragments of a large tin cup; 1 brass thimble; 1 axe head; 57 wire nails; 2 square nails; 4 screws; 1 lot of multi colored seed beads; 1 glass bottle and cork; 18 assorted buttons; 1 lot of fragments from saddle buckles, rings, and stirrups; 2 horse bits; and 9 fragments from a decorated headstall.

A published report in Plains Anthropologist from 1976, titled “The Poafpybitty Site: A Late Nineteenth Century Kiowa Study from Southwestern Oklahoma,” was completed by Museum of the Great Plains historian William K. Jones, who served as the ethnographer for the report, and by physical anthropologist Richard McWilliams. The report states that the Comanche landowner, Mary Poafpybitty, was told by her father that the grave contained Kiowas killed prior to the reservation period (circa 1875), when her father was a young warrior. According to her father's story, the Kiowas were camped on East Cache Creek approximately one and a half miles east of the grave site, when Fort Sill soldiers attacked the Kiowas and chased some as far as the burial site, where several of the Kiowas were killed. Historically and geographically, the location of the site was known to be utilized by the Kiowa, Kiowa-Apache, and Comanche tribes. Historic documentation confirms the presence of Kiowas on East Cache Creek several times in the early 1870s, corresponding with Poafpybitty's statement and with the dates of the associated funerary objects. Furthermore, the extended burial position of the human remains further supports a Kiowa affiliation.

Determinations Made by the Institute of the Great Plains

Officials of the Institute of the Great Plains have determined that:

• Pursuant to 25 U.S.C. 3001(9), the human remains described in this notice represent the physical remains of two individuals of Native American ancestry.

• Pursuant to 25 U.S.C. 3001(3)(A), the 247 objects described in this notice are reasonably believed to have been placed with or near individual human remains at the time of death or later as part of the death rite or ceremony.

• Pursuant to 25 U.S.C. 3001(2), there is a relationship of shared group identity that can be reasonably traced between the Native American human remains and associated funerary objects and the Kiowa Indian Tribe of Oklahoma.

Additional Requestors and Disposition

Lineal descendants or representatives of any Indian tribe or Native Hawaiian organization not identified in this notice that wish to request transfer of control of these human remains and associated funerary objects should submit a written request with information in support of the request to Debra Baker, NAGPRA Representative, Museum of the Great Plains, 601 NW Ferris Ave., Lawton, OK 73505, telephone (580) 581-3460, email debrab@museumgreatplains.org, by April 10, 2014. After that date, if no additional requestors have come forward, transfer of control of the human remains and associated funerary objects to the Kiowa Indian Tribe of Oklahoma may proceed.

The Institute of the Great Plains is responsible for notifying the Kiowa Indian Tribe of Oklahoma that this notice has been published.

Dated: September 25, 2013.
Sherry Hutt,
Manager, National NAGPRA Program.

[FR Doc. 2014-05188 Filed 3-10-14; 8:45 am]

BILLING CODE 4312-50-P